DEPARTMENT OF VETERANS AFFAIRS

[OMB Control No. 2900-0636]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before October 30, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0636.”

Send comments and recommendations concerning any aspect of the information collection to VA's OMB Desk Officer, OMB Human Resources and Housing Branch, New Executive Office Building, Room 10235, Washington, DC 20503 (202) 395-7316. Please refer to “OMB Control No. 2900-0636” in any correspondence.

SUPPLEMENTARY INFORMATION: Title: Request for Accelerated Payment; Certifications Required from Individuals Electing Accelerated Payments; and Agreement with Educational Institution.

OMB Control Number: 2900-0636.

Type of Review: Revision of a currently approved collection.

Abstract: A claimant who wishes to receive an accelerated payment of educational assistance under the Montgomery GI Bill (MGIB) must elect to do so. VA uses the request to support the claimant's election and to determine whether the claimant wants this option over the established monthly payments. The claimant is required to report that the payment was received and how the payment was used. In addition, schools are allowed to receive an advance MGIB accelerated payment on behalf of a claimant enrolled at that institution.

An agency may not conduct or sponsor, and a person is not required to respond to a collection of information unless it displays a currently valid OMB control number. The Federal Register notice with a 60-day comment period soliciting comments on this collection of information was published on July 3, 2003, at pages 40022-40023.

Affected Public: Individuals or households.

Estimated Annual Burden: 1,086 hours.

a. Request for Accelerated Payment—167 hours.

b. Certifications Required from Individuals Electing Accelerated Payments—833 hours.

c. Agreement with Educational Institutions—86 hours.

Estimated Average Burden Per Respondent:

a. Request for Accelerated Payment—1 minute.

b. Certifications Required from Individuals Electing Accelerated Payments—5 minutes.

c. Agreement with Educational Institutions—3 minutes.

Frequency of Response: On occasion.

Estimated Number of Respondents: 13,727

a. Request for Accelerated Payment—6,000.

b. Certifications Required from Individuals Electing Accelerated Payments—6,000.

c. Agreement with Educational Institutions—1,727.

Estimated Annual Responses: 21,727.

a. Request for Accelerated Payment—10,000.

b. Certifications Required from Individuals Electing Accelerated Payments—10,000.

c. Agreement with Educational Institutions—1,727.

Dated: September 16, 2003.
By direction of the Secretary:
Jacqueline Parks,
IT Specialist, Records Management Service.

[FR Doc. 03-24625 Filed 9-29-03; 8:45 am]

BILLING CODE 8320-01-P